DEPARTMENT OF INTERIOR

Fish and Wildlife Service

[FWS-R8-ES-2008-N0136; 80221-1112-0000-F2]

Coyote Springs Investment Planned Development Project Multiple-Species Habitat Conservation Plan

AGENCY: Fish and Wildlife Service, Interior.

ACTION: Notice of availability; final environmental impact statement and multi-species habitat conservation plan.

SUMMARY: Pursuant to the National Environmental Policy Act (NEPA), the Fish and Wildlife Service (Service) as the lead agency, together with the U.S. Army Corps of Engineers (Corps) and Bureau of Land Management (BLM) as cooperating agencies, advise the public of the availability of the final Environmental Impact Statement (EIS) on the application from Coyote Springs Investment LLC (CSI) for a Section 10 incidental take permit pursuant to the Endangered Species Act of 1973, as amended (ESA), a section 404 permit under the Clean Water Act, and reconfiguration of CSI private and lease lands in Lincoln County. In addition, the EIS includes the proposed action of BLM issuing a right-of-way within the BLM utility corridor, located west of U.S. Highway 93 in Lincoln County for the construction of detention basins.

This notice also announces the availability of the CSI Multiple-Species Habitat Conservation Plan (MSHCP), which CSI has submitted as part of their incidental take permit application, and Implementing Agreement (legal contract for the MSHCP). The permit would authorize the incidental take of specified covered species over 40 years, including some that may become federally-listed during the term of the permit. The permit is needed because take of species could occur during CSI's proposed urban development activities located in a 21,454-acre area in southern Lincoln County, Nevada. In addition, take of species could occur during recreation and resource management activities within the 13,767-acre proposed Coyote Springs Investment Conservation Lands (CSICL) in Clark and Lincoln counties. The CSICL is an area leased by CSI from BLM, which would be managed for the conservation of the desert tortoise (Gopherus agassizii) and other covered species specified in the CSI MSHCP.

This notice is provided pursuant to applicable NEPA regulations (40 CFR 1506.6) to inform the public of the proposed action, and to make available for 30 days' review the final EIS, CSI MSHCP, and Implementing Agreement.

DATES: A Record of Decision will be signed no sooner than 30 days after the publication of the Environmental Protection Agency notice. Comments on the final EIS must be received on or before October 14, 2008.

ADDRESSES: Comments should be addressed to Robert D. Williams, Field Supervisor, Fish and Wildlife Service, Nevada Fish and Wildlife Office, 1340 Financial Boulevard, Suite 234, Reno, Nevada 89502, and fax number (775) 861-6301.

FOR FURTHER INFORMATION CONTACT: Robert D. Williams, Field Supervisor, Fish and Wildlife Service, Nevada Fish and Wildlife Office, 4701 N. Torrey Pines Drive, Las Vegas, Nevada 89130, telephone (702) 515-5230 and fax number (702) 515-5231.

SUPPLEMENTARY INFORMATION:

Availability of Documents

Copies of the EIS, CSI MSHCP, and Implementing Agreement are available for public review during regular business hours from 9 a.m. to 5 p.m. at the Nevada Fish and Wildlife Office in Las Vegas, Nevada (see FOR FURTHER INFORMATION CONTACT). Copies are also available during the public comment period at the following libraries: (1) Clark County Library, 1401 E. Flamingo Road, Las Vegas, Nevada 89119; (2) Moapa Valley Library, 350 N. Moapa Valley Boulevard, Overton, Nevada 89040; (3) Washoe County Library, Downtown Main Branch, 301 South Center Street, Reno, Nevada 89501; (4) Lincoln County Library, 63 Main Street, Pioche, Nevada 89043; and (5) Alamo Branch Library, 100 North First Street, Alamo, Nevada 89001.

Individuals wishing copies of the EIS, CSI MSHCP, and Implementing Agreement should contact the Service by telephone (see FOR FURTHER INFORMATION CONTACT) or by letter (see ADDRESSES). These documents also are available on the Nevada Fish and Wildlife Office Web site at http://www.fws.gov/nevada/highlights.

Background Information

Section 9 of the Federal ESA of 1973, as amended and Federal regulations prohibit the take of fish and wildlife species listed as endangered or threatened (16 U.S.C. 1538). The term “take” means to harass, harm, pursue, hunt, shoot, wound, kill, trap, capture, or collect, or to attempt to engage in any such conduct (16 U.S.C. 1532). Harm includes significant habitat modification or degradation that actually kills or injures listed wildlife by significantly impairing essential behavioral patterns, including breeding, feeding, and sheltering [50 CFR 17.3(c)]. Under limited circumstances, we may issue permits to authorize incidental take of listed fish or wildlife; i.e., take that is incidental to, and not the purpose of, otherwise lawful activity. Regulations governing incidental take permits for threatened and endangered species are found in 50 CFR 17.32 and 17.22, respectively.

Although take of listed plant species is not prohibited under the Federal ESA, and therefore cannot be authorized under an incidental take permit, plant species may be included on a permit in recognition of the conservation benefits provided to them under a habitat conservation plan. All species included on an incidental take permit would receive assurances under the Services “No Surprises” regulation 50 CFR 17.22(b)(5) and 17.32(b)(5).

The EIS analyzes the impacts of the proposed implementation of the CSI MSHCP by the Applicant (CSI). The Applicant seeks a 40-year incidental take permit for covered activities within a proposed 21,454-acre development area located in southern Lincoln County, Nevada. The development area extends approximately nine miles north of the Lincoln County-Clark County line. The CSI MSHCP also would cover approximately 13,767 acres of leased land in Lincoln County (approximately 7,548 acres) and Clark County (approximately 6,219 acres). The leased lands would be designated as the CSICL and would be managed for the conservation of species, habitat, and waters of the United States (WOUS).

Land leased and owned by the Applicant occupies most of the eastern portion of Coyote Spring Valley straddling the Pahranagat Wash and the Kane Springs Wash in Lincoln County. This area is bordered by the Delamar Mountains to the north, the Meadow Valley Mountains to the east, and U.S. Highway 93 to the west. The leased land in Clark County is bordered by State Route 168 to the south. The surrounding land is primarily owned and managed by the BLM and Service. South of the development area, CSI privately-owned lands are being developed in Clark County and are covered under the existing Clark County Multiple Species Habitat Conservation Plan.

The Applicant has requested a permit for two federally listed species, the threatened desert tortoise (Mojave population) and the endangered Moapa dace (Moapa coriacea) and three species that are not listed under the Federal ESA at the current time: banded Gila monster (Heloderma suspectum cinctum), Virgin River chub (Gila seminuda) (Muddy River population), and the Western burrowing owl (Athene cunicularia hypugaea).

Proposed covered activities and projects within the CSI MSHCP fall within six categories: Community development and construction activities; recreational facilities and open space; utility infrastructure; water supply infrastructure; flood control structures development and maintenance (including stormwater management); and resource management features (including re-alignment of the existing land ownership, subject to BLM approval and compliance with applicable laws, to minimize impacts to desert tortoise and management of the CSICL).

The CSI MSHCP's proposed conservation strategy is designed to minimize and mitigate the impacts of covered activities, contribute to the recovery of listed covered species, and protect and enhance populations of non-listed covered species. The strategy provides for the designation and management of a conservation area for species, habitat and WOUS on approximately 13,767 acres. Other conservation measures include: (1) Development and implementation of a long-term protection plan for the Moapa dace and Virgin River chub; (2) payment of mitigation fees, in the amount of $800 per acre of disturbance for the development of private land, which would be used to fund research on the covered species and management of the CSICL, and other mitigation measures as described in the CSI MSHCP; and (3) creation of a wash buffer zone easement within the development area.

National Environmental Policy Act Compliance

Proposed permit issuance triggers the need for compliance with NEPA. As lead agency, the Service has prepared an EIS that analyzes alternatives associated with issuance of the incidental take permit. Cooperating agencies to the final EIS include the Corps and BLM. The EIS analyzes the Corps' issuance of a section 404 permit to CSI under the Clean Water Act for the proposed urban development on 21,454-acres of private land and for the proposed detention basins on BLM-administered land in Lincoln County. The EIS also addresses BLM's proposed reconfiguration of the CSI private and BLM leased lands and issuance of a right-of-way to CSI for the construction of detention basins on up to 244 acres of BLM-administered land within the utility corridor located west of U.S. Highway 93 in Lincoln County. The proposed detention basins on BLM-administered land are not included as a covered activity in the CSI MSHCP but would be subject to a section 7 formal consultation under ESA.

Public Involvement

A Notice of Intent (NOI) to prepare an EIS was published in the Federal Register for this project on December 4, 2001 (66 FR 63065). A second NOI was published on September 12, 2006 (71 FR 53704) and scoping meetings were held on September 26 and 27, 2006, in Alamo and Moapa, Nevada, respectively. A third NOI was published on November 2, 2006 (71 FR 64555) to reopen the public comment period and to correct inaccurate contact information provided in the September 12, 2006 notice. On November 2, 2007, a NOA of the draft CSI MSHCP, draft EIS, and draft Implementing Agreement was published in the Federal Register (72 FR 62229). A 60-day public comment period on the draft documents closed on January 2, 2008, with individual extensions granted until January 14, 2008, as requested by several entities.

Public Comments

The Service and Applicant invite the public to comment on the final EIS, CSI MSHCP, and Implementing Agreement during a 30-day public comment period beginning on the date of this notice. Before including your address, phone number, e-mail address, or other personal identifying information in your comment, you should be aware that your entire comment—including your personal identifying information—may be made publicly available at any time. While you may ask us in your comment to withhold your personal identifying information from public review, we cannot guarantee that we will be able to do so.

The Service will evaluate the application, associated documents, and comments submitted to determine whether the application meets the requirements of section 10(a) of the ESA. A permit decision will be made no sooner than 30 days after the publication of the EIS and completion of the Record of Decision.

This notice is provided pursuant to section 10(a) of the Federal ESA and regulations for implementing NEPA, as amended (40 CFR 1506.6).

Dated: August 28, 2008.
Richard E. Sayers,
Acting Deputy Regional Director, California and Nevada Region, Sacramento, CA.

[FR Doc. E8-21284 Filed 9-11-08; 8:45 am]

BILLING CODE 4310-55-P